DEPARTMENT OF ENERGY

Federal Energy Regulatory Commission

[Docket No. IC09-598-001]

Commission Information Collection Activities (FERC-598); Comment Request; Submitted for OMB Review

January 26, 2009.

AGENCY: Federal Energy Regulatory Commission, DOE.

ACTION: Notice.

SUMMARY: In compliance with the requirements of section 3507 of the Paperwork Reduction Act of 1995, 44 U.S.C. 3507, the Federal Energy Regulatory Commission (Commission) has submitted the information collection described below to the Office of Management and Budget (OMB) for review of the information collection requirements. Any interested person may file comments directly with OMB and should address a copy of those comments to the Commission as explained below. The Commission received no comments in response to the Federal Register notice (73FR70339, 11/20/2008) and has made this notation in its submission to OMB.

DATES: Comments on the collection of information are due by February 24, 2009.

ADDRESSES: Address comments on the collection of information to the Office of Management and Budget, Office of Information and Regulatory Affairs, Attention: Federal Energy Regulatory Commission Desk Officer. Comments to OMB should be filed electronically, c/o oira_submission@omb.eop.gov and include OMB Control Number 1902-0166 as a point of reference. The Desk Officer may be reached by telephone at 202-395-7345.

A copy of the comments should also be sent to the Federal Energy Regulatory Commission and should refer to Docket No. IC09-598-001. Comments may be filed either electronically or in paper format. Those persons filing electronically do not need to make a paper filing. Documents filed electronically via the Internet must be prepared in an acceptable filing format and in compliance with the Federal Energy Regulatory Commission submission guidelines. Complete filing instructions and acceptable filing formats are available at http://www.ferc.gov/help/submission-guide/electronic-media.asp. To file the document electronically, access the Commission's Web site and click on Documents & Filing, E-Filing (http://www.ferc.gov/docs-filing/efiling.asp), and then follow the instructions for each screen. First time users will have to establish a user name and password. The Commission will send an automatic acknowledgement to the sender's e-mail address upon receipt of comments.

For paper filings, an original and 2 copies of the comments should be submitted to the Federal Energy Regulatory Commission, Secretary of the Commission, 888 First Street, NE., Washington, DC 20426, and should refer to Docket No. IC09-598-001.

All comments may be viewed, printed or downloaded remotely via the Internet through FERC's homepage using the “eLibrary” link. For user assistance, contact ferconlinesupport@ferc.gov or toll-free at (866) 208-3676 or for TTY, contact (202) 502-8659.

FOR FURTHER INFORMATION CONTACT: Michael Miller may be reached by telephone at (202) 502-8415, by fax at (202) 273-0873, and by e-mail at michael.miller@ferc.gov.

SUPPLEMENTARY INFORMATION: The information collected under FERC-598 “Self Certification for Entities Seeking Exempt Wholesale Generator or Foreign Utility Company Status” (OMB Control No. 1902-0166) is used by the Commission to implement the statutory provisions of Title XII, subchapter F of the Energy Policy Act of 2005 (EPAct 2005).¹

¹ Energy Policy Act of 2005, Public Law No. 109-58, 119 Stat. 594 (2005) (codified at 42 U.S.C. 16451, et seq.).

EPAct 2005 repealed the Public Utility Holding Company Act of 1935 (PUHCA 1935) in its entirety, including section 32, which provided for the Commission to exempt wholesale generators from PUHCA 1935 on a case-by-case basis, upon application. Following the repeal of PUHCA 1935 and the enactment of PUHCA 2005, in Order No. 667 ² the Commission amended its regulations to add procedures for self-certification by entities seeking exempt wholesale generator (EWG) and foreign utility company (FUCO) status. This self-certification is similar to the process available to entities that seek qualifying facility status.

² Repeal of the Public Utility Holding Company Act of 1935 and Enactment of the Public Utility Holding Company Act of 2005, 70 FR. 75,592 (2005), FERC Statutes and Regulations ¶ 31,197 (2005) Order on reh'g, 71 FR 28,446 (2006), FERC Statutes and Regulations ¶ 31,213 (2006), order on reh'g, 71 FR 42,750 (2006), FERC Statutes and Regulations ¶ 31,224 (2006), order on reh'g, FERC ¶ 61,133 (2007).

An EWG is a “person engaged directly or indirectly through one or more affiliates, and exclusively in the business of owning or operating, or both owning and operating, all or part of one or more eligible facilities and selling electric energy at wholesale.” ³ A FUCO is a company that “owns or operates facilities that are not located in any state and that are used for the generation, transmission, or distribution of electric energy for sale or the distribution at retail of natural or manufactured gas for heat, light, or power, if such company: (1) Derives no part of its income, directly or indirectly, from the generation, transmission, or distribution of electric energy for sale or the distribution at retail of natural or manufactured gas for heat, light, or power, within the United States; and (2) neither the company nor any of its subsidiary companies is a public-utility company operating in the United States”.⁴

³ 18 CFR 366.1.

⁴ Ibid.

An exempt EWG or FUCO or its representative may file with the Commission a notice of self certification demonstrating that it satisfies the definition of exempt wholesale generator or foreign utility company. In the case of EWGs, the person filing a notice of self certification must also file a copy of the notice of self certification with the state regulatory authority of the state in which the facility is located and that person must also represent to the Commission in its submission that it has filed a copy of the notice with the appropriate state regulatory authority.⁵

⁵ 18 CFR 366.7.

A submission of the information is necessary for the Commission to carry out its responsibilities under EPAct 2005.⁶ The Commission implements its responsibilities through the Code of Federal Regulations, 18 CFR Part 366. These filing requirements are mandatory.

⁶ 42 U.S.C. 16451 et seq.

Action: The Commission is requesting a three-year extension of the current expiration date, with no change to the existing collection of data.

Burden Statement: Public reporting burden for this collection is estimated as:

FERC data collection | Number of respondents annually (1) | Number of responses per respondent (2) | Average burden hours per response (3) | Total annual burden hours (1)×(2)×(3)
FERC-598 | 199 | 1 | 6 | 1,194

Estimated cost to respondents is $72,549.27 [1,194 hours divided by 2080 hours ⁷ per year, times $126,384 ⁸ equals $72,549.27]. The average cost per respondent is $364.57.

⁷ Number of hours an employee works each year.

⁸ Average annual salary per employee.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collections of information are necessary for the proper performance of the functions of the Commission, including whether the information will have practical utility; (2) the accuracy of the agency's estimates of the burden of the proposed collections of information, including the validity of the methodology and assumptions used; (3) ways to enhance the quality, utility and clarity of the information to be collected; and (4) ways to minimize the burden of the collections of information on those who are to respond, including the use of appropriate automated, electronic, mechanical, or other technological collection techniques or other forms of information technology, e.g., permitting electronic submission of responses.

Kimberly D. Bose,
Secretary.

[FR Doc. E9-2154 Filed 1-30-09; 8:45 am]

BILLING CODE 6717-01-P